DEPARTMENT OF COMMERCE

National Oceanic and Atmospheric Administration

[RTID 0648-XF350]

Magnuson-Stevens Fishery Conservation and Management Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region (GARFO), NMFS, has made a preliminary determination that an Exempted Fishing Permit (EFP) application contains all of the required information and warrants further consideration. The EFP would allow federally permitted fishing vessels to fish outside fishery regulations in support of exempted fishing activities proposed by the Massachusetts Division of Marine Fisheries (MA DMF). Regulations under the Magnuson-Stevens Fishery Conservation and Management Act require publication of this notification to provide interested parties the opportunity to comment on applications for proposed EFPs.

DATES: Comments must be received on or before December 22, 2025.

ADDRESSES: You may submit written comments by email: nmfs.gar.efp@noaa.gov. Include in the subject line “MA DMF On-Demand EFP.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, Christine.Ford@noaa.gov, (978) 281-9185.

SUPPLEMENTARY INFORMATION: The MA DMF submitted a complete application for an EFP to conduct commercial fishing activities that the regulations would otherwise restrict, to conduct trials of on-demand fishing gear that use no surface buoys and to test the ability of gear marking systems to consistently locate gear. This EFP would exempt the participating vessels from the following Federal regulations:

Table 1—Requested Exemptions
CFR citation | Regulation | Need for exemption
50 CFR 697.21(b)(2) | Gear marking requirements | For trial of trap/pot gear with no surface markings (fully ropeless) on trawls of more than three traps.

Table 2—Project Summary
Project title | Testing on-demand fishing technologies that help minimize the risk of large whale entanglements in lobster trap fishing gear in Massachusetts coastal waters.
Project start | 02/01/2026.
Project end | 05/15/2026.
Project objectives | Provide access and support for Massachusetts lobster trap fishers to fish during the closed season in the restricted areas. Mitigate the economic impact of seasonal fishing closures while continuing to reduce the risk of entanglement to endangered North Atlantic right whales. Collect data to help address technological and logistical issues associated with the implementation of on-demand gear fishing.
Project location | Massachusetts Restricted Area (MRA); South Islands Restricted Area (SIRA); Outer Cape Cod Lobster Management Area (OCCLMA).
Number of vessels | Up to 50.
Number of trips | Up to 700.
Trip duration (days) | 1 day.
Total number of days | Up to 700.
Gear type(s) | Trap/pot.
Number of tows or sets | Up to 20/trip; up to 14,000 total.
Duration of tows or sets | Up to 7 days.

Project Narrative

This EFP would allow federally permitted vessels to test on-demand gear in seasonal Restricted Areas that do not allow the use of persistent vertical lines under the Atlantic Large Whale Take Reduction Plan (ALWTRP). This project would allow up to 50 lobster trap vessels to replace up to 20 of their existing trawls with modified trawls in the ALWTRP Restricted Areas. Modified gear would replace both traditional end lines with one or two on-demand units; trawls would have no persistent vertical lines (fully ropeless). Participants will use privately owned on-demand gear purchased with their own funds or purchased through reimbursements provided by an on-demand grant program operated by MA DMF. Participants will only be allowed to use on-demand systems that are currently approved for use in the restricted areas under the Northeast Fisheries Science Center (NEFSC) EFP, based on their gear team's reliability standards. MA DMF will record each participants' brand of approved on-demand gear, and consult with them to confirm they know how to use the gear and marking system, either via training from the manufacturer, from participation in another EFP, or through training by MA DMF.

The goals of this project are to provide Federal lobster permit holders in Massachusetts with access to seasonal Restricted Areas, to test the efficacy of methods that alert other fishers to the presence of gear on the bottom, and to provide policy makers with information about the operational benefits and constraints of fishing without vertical lines. The project objectives are to:

• Provide participants with additional fishing opportunities through access to seasonal Restricted Areas;

• Collect data on the deployment and retrieval of on-demand gear, usage of gear location marking systems, and any occurrences of gear conflicts or gear deployment failures;

• Provide support and training for participating fishers on the use of on-demand technologies;

• Trial gear location marking systems that promote interoperability for fishers and reduce the potential for gear conflict;

• Collect timing data on hauling efficiency of on-demand versus traditional fishing gear; and

• Provide feedback to on-demand manufacturers to increase performance under commercial fishery conditions.

This permit would only exempt vessels from the specified Federal regulations in Federal waters. It would not exempt the vessels from any requirements imposed by any state, the Endangered Species Act, the Marine Mammal Protection Act, or any other applicable laws. The applicant would be responsible for obtaining all required state authorizations. Other than gear markings, all trap/pot trawls would be consistent with the regulations of the management area where the vessel is fishing and would be fished in accordance with the participating vessels' standard operations (number and length of trips, soak times, trap limits, etc.).

Participants would be required to virtually mark the location of each end of their trawls using the gear-marking technology associated with the on-demand system they were fishing. All gear-marking would be integrated with the EarthRanger gear location cloud-based database so that all EarthRanger users would be able to see all set on-demand gear within 5 miles (8.05 km). MA DMF would also have access to all on-demand set locations through EarthRanger.

MA DMF would provide standardized data collection sheets to all participants. Data deemed confidential, including but not limited to on-demand specific deployment locations and catch information, may be collected but will not be made public.

MA DMF proposes the following best practices and risk reduction measures:

• All vessels would report all right whale sightings to NMFS via ne.rw.survey@noaa.gov or NOAA (866-755-6622) or the U.S. Coast Guard (Channel 16) and record sightings on data sheets;

• All vessels would retrieve on-demand vertical lines as quickly as possible to minimize time in the water column;

• All vessels would adhere to current approach regulations—a 500-yard (457.2-meter) buffer zone created by a surfacing right whale—and must depart immediately at a safe and slow speed, in accordance with current regulations;

• If any large whale species came within 500 yards (457.2 meters) of a participating vessel during hauling, fishing would immediately cease, by either removal or resetting, and be reinitiated only after it was reasonable to assume the whale(s) had left the area;

• All vessels would provide mandatory, weekly gear loss reports; MA DMF would provide monthly gear conflict/loss reports to the Greater Atlantic Regional Fisheries Office (GARFO);

• All vessels would operate within a 10-knot (18.52 km) speed limit when transiting Restricted Areas or when whales are observed;

• EarthRanger web access, the ER Buoy app, or an equivalent application will be utilized for identifying any on-demand gear currently set within the work areas;

• Stowed hauling lines in on-demand units will contain a unique colored marking consisting of 12″ of yellow twine above each regional ALWTRP marking;

• A unique flag will be flown by each vessel within ALWTRP vertical line closure areas for enforcement recognition;

• All participants would carry a MA DMF scientist on a subset of trips to collect additional data and oversee trial performance;

• No floating groundline would be used on research trawls, including where otherwise legally allowed between the first trap and anchor or on-demand unit; and

• Law enforcement agencies will be notified of project participants and activities in advance of the project start date.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: December 2, 2025.
Kelly Denit,
Director, Office of Sustainable Fisheries, National Marine Fisheries Service.

[FR Doc. 2025-21997 Filed 12-4-25; 8:45 am]

BILLING CODE 3510-22-P